NEIGHBORHOOD REINVESTMENT CORPORATION

Regular Board of Directors Meeting; Sunshine Act

Time and Date: 2 PM, Thursday, February 28, 2002.

Place: Neighborhood Reinvestment Corporation, 1325 G Street, NW., Suite 800, Washington, DC 20005.

Status: Open.

Contact Person for More Information: Jeffrey T. Bryson, General Counsel/Secretary, 202-220-2372.

Agenda:

I. Call to Order

II. Introductions

III. Approval of Minutes—12/17/2001

IV. Audit Committee Report—1/22/2002

A. Financial Statements

B. OMB A-133 Report

V. Budget Committee Report—1/31/2002

VI. Resolution Appreciation

VII. Treasurer's Report

VIII. Executive Directors Management Report

A. NHSA

B. Campaign on Homeownership Presentation

IX. Adjournment

Jeffrey T. Bryson,
General Counsel/Secretary.

[FR Doc. 02-4556 Filed 2-21-02; 4:11 pm]

BILLING CODE 7570-01-M